DEPARTMENT OF TRANSPORTATION

Federal Aviation Administration

Twenty Seventh RTCA SC-225 Rechargeable Lithium Batteries and Battery Systems Plenary

AGENCY: Federal Aviation Administration (FAA), U.S. Department of Transportation (DOT).

ACTION: Twenty Seventh RTCA SC-225 Rechargeable Lithium Batteries and Battery Systems Plenary.

SUMMARY: The FAA is issuing this notice to advise the public of a meeting of Twenty Seventh RTCA SC-225 Rechargeable Lithium Batteries and Battery Systems Plenary.

DATES: The meeting will be held February 07, 2017 09:00 a.m.-05:00 p.m.

ADDRESS: The meeting will be held at: Virtually at https://rtca.webex.com/rtca/j.php?MTID=mc6516c82ecf290e34b0f1e7cfaff2930, Join by phone, 1-877-668-4493, Call-in toll-free number (US/Canada), 1-650-479-3208 Call-in toll number (US/Canada), Access code: 636 235 216, Meeting Password: bVxFZrm6.

FOR FURTHER INFORMATION, CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twenty Seventh RTCA SC-225 Plenary. The agenda will include the following:

Tuesday, February 7, 2017—9:00 a.m.-5:00 p.m.

1. Welcome and Administrative Remarks (including DFO & RTCA Statement)

2. Introductions

3. Agenda Review

4. Meeting-Minutes Review

5. Final Review and Comment (FRAC) Resolution Review

6. Approval of DO-311A for submission to RTCA PMC

7. Action Item Review

8. Any other Business

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on December 7, 2016.
Mohannad Dawoud,
Management & Program Analyst, Partnership Contracts Branch, ANG-A17, NextGen, Procurement Services Division, Federal Aviation Administration.

[FR Doc. 2016-29760 Filed 12-12-16; 8:45 am]

BILLING CODE 4910-13-P